SECURITIES AND EXCHANGE COMMISSION

[File No. 500-1]

In the Matter of Plasticon International Inc.; Order of Suspension of Trading

September 21, 2007.

It appears to the Securities and Exchange Commission that there is a lack of current and accurate information concerning the securities of Plasticon International Inc. (“Plasticon”) because Plasticon is delinquent on most of its required filings since November 1997.

The Commission is of the opinion that the public interest and the protection of investors require a suspension of trading in the securities of the above-listed company.

Therefore, it is ordered, pursuant to Section 12(k) of the Securities Exchange Act of 1934, that trading in the above-listed company is suspended for the period from 9:30 a.m. EDT on September 21, 2007, through 11:59 p.m. EDT on October 4, 2007.

By the Commission.
J. Lynn Taylor,
Assistant Secretary.

[FR Doc. 07-4731 Filed 9-21-07; 1:52 pm]

BILLING CODE 8010-01-P